DEPARTMENT OF THE TREASURY

Submission for OMB Review; Comment Request

September 25, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 3, 2003 to be assured of consideration.

Alcohol and Tobacco Tax and Trade Bureau (TTB)

OMB Number: 1513-0052.

Recordkeeping Requirement ID Number: TTB REC 5110/10.

Form Number: TTB F 5110.75.

Type of Review: Extension.

Title: Alcohol Fuel Plants (AFP) Records, Reports and Notices.

Description: Data is necessary (1) to determine that persons are qualified to produce alcohol for fuel purposes and to identify such persons, (2) to account for distilled spirits produced and verify its proper disposition and (3) to keep registrations current and evaluate permissible variations from prescribed procedures.

Respondents: Business of other for-profit, Farms.

Estimated Number of Respondents/Recordkeepers: 871.

Estimated Burden Hours Per Respondent/Recordkeeper: 1 hour.

Frequency of Response: Annually.

Estimated Total Reporting/Recordkeeping Burden: 871 hours.

OMB Number: 1513-0064.

Recordkeeping Requirement ID Number: TTB REC 5170/1.

Type of Review: Extension.

Title: Importer's Records and Reports.

Description: Importers are required to maintain usual and customary business records and file letter applications or notices related to specific regulatory activities.

Respondents: Federal Government.

Estimated Number of Recordkeepers: 500.

Estimated Burden Hours Per Recordkeeper: 30 minutes.

Frequency of Response: On occasion.

Estimated Total Recordkeeping Burden: 251 hours.

OMB Number: 1513-0070.

Recordkeeping Requirement ID Number: TTB REC 5220/1.

Type of Review: Extension.

Title: Tobacco Export Warehouse—Record of Operations.

Description: Tobacco Export Warehouses store untaxpaid tobacco products until they are exported. Record is used to maintain accountability over these products. Allows TTB to verify that all products have been exported or tax liabilities satisfied. Protects tax revenues.

Respondents: Business or other for-profit.

Estimated Number of Recordkeepers: 221.

Estimated Burden Hours Per Recordkeeper: 1 hour.

Frequency of Response: On occasion.

Estimated Total Recordkeeping Burden: 1 hour.

OMB Number: 1513-0072.

Recordkeeping Requirement ID Number: TTB REC 5530/1.

Type of Review: Extension.

Title: Applications and Notices—Manufacturers of Nonbeverage Products.

Description: Reports (Letterhead Applications and Notices) are submitted by manufacturers of Nonbeverage Products who are using Distilled Spirits on which drawback will be claimed. Reports sensor that operations are in compliance with law: Prevents spirits from diversion to beverage use. Protects the revenue.

Respondents: Business or other for-profit.

Estimated Number of Recordkeepers: 640.

Estimated Burden Hours Per Recordkeeper: 1 hour.

Frequency of Response: On occasion.

Estimated Total Recordkeeping Burden: 640 hours.

OMB Number: 1513-0077.

Recordkeeping Requirement ID Number: TTB REC 5190/1.

Type of Review: Extension.

Title: Applications and Notices—Manufacturers of Nonbeverage Products.

Description: Records of Things of Value to Retailers, and Occasional Letter Reports from Industry Members Regarding Information on Sponsorships, Advertisements, Promotions, etc., Under the Federal Alcohol Administration Act.

Respondents: Business of other for-profit, Individuals or households.

Estimated Number of Recordkeepers: 12,665.

Estimated Burden Hours Per Recordkeeper: 1 hour.

Frequency of Response: On occasion.

Estimated Total Recordkeeping Burden: 51 hours.

OMB Number: 1513-0093.

Form Numbers: TTB F 5600.38.

Type of Review: Extension.

Title: Applicant for Extension of Time for Payment of Tax.

Description: TTB uses the information on the form to determine if a taxpayer is qualified to extend payment based on circumstances beyond the taxpayer's control.

Respondents: Business or other for-profit.

Estimated Number of Respondents: 12.

Estimated Burden Hours Per Respondent: 15 minutes.

Frequency of Response: On occasion.

Estimated Total Reporting Burden: 3 hours.

OMB Number: 1513-0098.

Form Number: TTB F 5154.2.

Type of Review: Extension.

Title: Supporting Data for Nonbeverage Drawback Claims.

Description: Data required to be submitted by manufacturers of nonbeverage products are used to verify claims for drawback of taxes and hence, protect the revenue. Maintains accountability, allows office (initial) verification of claims.

Respondents: Business or other for-profit.

Estimated Number of Respondents: 590.

Estimated Burden Hours Per Respondent: 1 hour.

Frequency of Response: Monthly, Quarterly.

Estimated Total Reporting Burden: 3,540 hours.

Clearance Officer: Jacqueline White (202) 927-8930, Bureau of Alcohol, Tobacco and Firearms, Room 3200, 650 Massachusetts Avenue, NW., Washington, DC 20226.

OMB Reviewer: Joseph F. Lackey, Jr., (202) 395-7316, Office of Management and Budget, Room 10235, New Executive Office Building, Washington, DC 20503.

Lois K. Holland,
Treasury PRA Clearance Officer.

[FR Doc. 03-25151 Filed 10-2-03; 8:45 am]

BILLING CODE 4810-31-P